DEPARTMENT OF HEALTH AND HUMAN SERVICES

Substance Abuse and Mental Health Services Administration

Agency Information Collection Activities, Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on 240-276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Triennial Evaluation of the Projects for Assistance in Transition from Homelessness (PATH)—New

The Center for Mental Health Services awards grants each fiscal year to each of the States, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act). Section 522 of the PHS Act requires that the grantee States and Territories must expend their payments under the Act solely for making grants to political subdivisions of the State, and to nonprofit private entities (including community-based veterans' organizations and other community organizations) for the purpose of providing services specified in the Act. Available funding is allotted in accordance with the formula provision of section 524 of the PHS Act.

This submission is for a collection of contextual, process, and outcome information to evaluate the national PATH program. Section 528 of the PHS Act specifies that the Administrator of the Substance Abuse and Mental Health Services Administration shall evaluate at least once every 3 years the expenditures of grants under this part by eligible entities in order to ensure that expenditures are consistent with the provisions of this part. The evaluation shall include recommendations regarding changes in program design or operations.

The Proposed Data Collection Includes

• Interviews with 10 State Path Contacts (SPCs) and an online survey with all 56 SPCs to gather more information on how States plan, solicit, and monitor local providers using PATH funding; the challenges faced in their operating environment, in working with the populations they serve, and the environment in which they work; remaining gaps and needs as well as possible solutions and recommendations for bridging gaps and filling needs and improving PATH efficiency and effectiveness.

• Interviews with 20-60 local providers and an online survey with 1 representative who provides face-to-face, PATH-funded services to clients selected randomly from each local service provider (n = 483). Like SPC interviews and online surveys, the focus of this part of the data collection effort will be on assessing local providers' views on the challenges faced in their operating environment, in working with the populations they serve and the environment in which they work; on training received and needed; reporting requirements and burden; remaining gaps and needs and possible solutions and recommendations for bridging gaps and filling needs and improving PATH efficiency and effectiveness.

• Focus groups with 8-12 consumers that will be conducted on location at each of the 10 PATH locations selected for site visitation. The focus groups will assess clients' knowledge of PATH; the types of services they receive; satisfaction with services received; perceived needs that are not being met; and recommendations to improve service access, delivery, and comprehensiveness.

The estimated total burden for the reporting requirements for the triennial PATH evaluation is summarized in the table below.

Table 1—Annual Burden
PATH evaluation | Number of respondents | Responses/respondent | Total responses | Hours/response | Total hour burden
Online Surveys:
State PATH Contact | 56 | 1 | 56 | 1 | 56
PATH Provider | 483 | 1 | 483 | .75 | 363
Site Visit Interviews (10 sites):
State PATH Contact | *10 | 1 | 10 | 1.1 | 11
Provider Staff—Supervisor/Administrator | **30 | 1 | 30 | .67 | 20
Provider Staff—Outreach Worker/Case Manager | ***30 | 1 | 30 | .67 | 20
Consumer Focus Group Discussion | ****120 | 1 | 120 | 1.5 | 180
Total | 729 |  | 729 |  | 650
* 1 respondent × 10 sites = 10 total respondents.
** Up to 3 respondents × 10 sites = 30 total respondents.
*** Up to 3 respondents × 10 sites = 30 total respondents.
**** Up to 12 respondents × 10 sites = 120 respondents.

Send comments to Summer King, SAMHSA Reports Clearance Officer, Room 8-1099, One Choke Cherry Road, Rockville, MD 20857 and e-mail a copy to summer.king@samhsa.hhs.gov. Written comments should be received within 60 days of this notice.

Dated: May 31, 2011.
Elaine Parry
Director, Office of Management, Technology and Operations.

[FR Doc. 2011-14090 Filed 6-7-11; 8:45 am]

BILLING CODE 4162-20-P